DEPARTMENT OF THE INTERIOR

Office of Surface Mining Reclamation and Enforcement

Notice of Proposed Information Collection for 1029-0059

AGENCY: Office of Surface Mining Reclamation and Enforcement.

ACTION: Notice and request for comments.

SUMMARY: In compliance with the Paperwork Reduction Act of 1995, the Office of Surface Mining Reclamation and Enforcement (OSM) is announcing its intention to request renewed authority to collect information for: OSM grant forms—OSM-47 (Budget Information Report), OSM-49 (Budget Information and Financial Reporting) and OSM-51 (Performance and Program narrative); 30 CFR 735 (Grants for Program Development and Administration and Enforcement); and 30 CFR part 886 (State and Tribal Reclamation Grants).

DATES: Comments on the proposed information collection must be received by November 15, 2005, to be assured of consideration.

ADDRESSES: Comments may be mailed to John A. Trelease, Office of Surface Mining Reclamation and Enforcement, 1951 Constitution Ave., NW., Room 202-SIB, Washington, DC 20240. Comments may also be submitted electronically to jtreleas@osmre.gov.

FOR FURTHER INFORMATION CONTACT: To request a copy of the information collection requests, explanatory information and related forms, contact John A. Trelease, at (202) 208-2783.

SUPPLEMENTARY INFORMATION: The Office of Management and Budget (OMB) regulations at 5 CFR 1320, which implement provisions of the Paperwork Reduction Act of 1995 (Pub. L. 104-13), require that interested members of the public and affected agencies have an opportunity to comment on information collection and recordkeeping activities [see 5 CFR 1320.8(d)]. This notice identifies information collections that OSM will be submitting to OMB for approval. These collections are contained in OSM grant forms—OSM-47 (Budget Information Report), OSM-49 (Budget Information and Financial Reporting) and OSM-51 (Performance and Program narrative); 30 CFR 735 (Grants for Program Development and Administration and Enforcement); and 30 CFR part 886 (State and Tribal Reclamation Grants). OSM will request a 3-year term of approval for each information collection activity.

Comments are invited on: (1) The need for the collection of information for the performance of the functions of the agency; (2) the accuracy of the agency's burden estimates; (3) ways to enhance the quality, utility and clarity of the information collection; and (4) ways to minimize the information collection burden on respondents, such as use of automated means of collection of the information. A summary of the public comments will accompany OSM's submission of the information collection request to OMB.

Title: Budget information, financial reporting, and performance reporting forms.

OMB Control Number: 1029-0059.

Summary: State and tribal reclamation and regulatory authorities are requested to provide specific budget and program information as part of the grant application and reporting processes authorized by the Surface Mining Control and Reclamation Act.

Bureau Form Numbers: OSM-47, OSM-49 and OSM-51.

Frequency of Collection: Semi-annually and annually.

Description of Respondents: State and tribal regulatory and reclamation authorities.

Total Annual Responses: 132.

Total Annual Burden Hours: 680 hours.

Dated: September 13, 2005.
John R. Craynon,
Chief, Division of Regulatory Support.

[FR Doc. 05-18445 Filed 9-15-05; 8:45 am]

BILLING CODE 4310-05-M